DEPARTMENT OF TRANSPORTATION

Federal Highway Administration

Environmental Impact Statement; Dubuque County, Iowa

AGENCY: Federal Highway Administration (FHWA), DOT.

ACTION: Notice of intent.

SUMMARY: The FHWA is issuing this notice to advise the public that an environmental impact statement will be prepared for the U.S. 20 Capacity Improvement Study in Dubuque County, Iowa.

FOR FURTHER INFORMATION CONTACT: Manu M. Chacko, Transportation Engineer, FHWA, 105 6th Street, Ames, IA 50010-6337, (515) 233-7307. James P. Rost, Director, Office of Environmental Services, Iowa Department of Transportation, 800 Lincoln Way, Ames, IA 50010, (515) 239-1798.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at http://www.access.gpo.gov/nara.

Background

The FHWA, in cooperation with the Iowa Department of Transportation, will prepare an environment impact statement (EIS) for a capacity improvement study for U.S. 20 between the Peosta Interchange and Devon Drive in the City of Dubuque in Dubuque County, Iowa.

The capacity improvement study is to consider reconstruction of U.S. 20 to provide a free flow facility. The U.S. 20 Capacity Improvement Study will identify and evaluate potential long-range improvements for the U.S. 20 corridor. Improvements that will be considered include the addition of interchanges, modifications to adjacent existing intersections and frontage roads, and conversion of two-way frontage roads to one-way. The two main goals of the study are to (1) identify feasible concepts to provide free flow traffic on U.S. 20 and (2) to determine a preferred concept.

Letters describing the proposed action and soliciting comments have been sent to appropriate federal, state, and local agencies, and to private organizations and citizens who have previously expressed interest in or3 are known to be interested in this proposal.

A series of public meetings will be held in Dubuque, Iowa, during 2001 and 2002. In addition, a public hearing will be held. Public notice will be given of the time and place of the meetings and hearing. The draft EIS will be available for public and agency review and comment prior to the public hearing.

A scoping meeting for identifying significant issues to be addressed in the environmental impact statement was held on March 21, 2001. The scoping record will be held open for 30 days from the publication of this Notice in the Federal Register.

To ensure that the full range of issues related to this proposed action are addressed and all significant issues identified, comments and suggestions are invited from all interested parties. Comments or questions concerning this proposed action and the EIS should be directed to the Iowa Department of Transportation or FHWA at the address provided in the caption FOR FURTHER INFORMATION CONTACT.

(Catalog of Federal Domestic Assistance Program Number 20.205, Highway Planning and Construction. The regulations implementing Executive Order 12372 regarding intergovernmental consultation of Federal programs and activities apply to this program.)

Authority: 23 U.S.C. 315; 49 CFR 1.48).

Dated: April 10, 2001.
Susan E. Klekar,
Assistant Division Administrator.

[FR Doc. 01-9784 Filed 4-20-01; 8:45 am]

BILLING CODE 4910-22-M